NUCLEAR REGULATORY COMMISSION

Advisory Committee on the Medical Uses of Isotopes: Call for Nominations

AGENCY: U.S. Nuclear Regulatory Commission.

ACTION: Call for nominations.

SUMMARY: The U.S. Nuclear Regulatory Commission (NRC) is advertising for nominations for the position of Radiation Oncologist Physician (Brachytherapy) on the Advisory Committee on the Medical Uses of Isotopes (ACMUI). Nominees should be a currently practicing radiation oncologist.

DATES: Nominations are due on or before May 19, 2014.

Nomination Process: Submit an electronic copy of resume or curriculum vitae, along with a cover letter and endorsement letter(s) from professional organizations, or others, to Ms. Sophie Holiday, sophie.holiday@nrc.gov. The cover letter should describe the nominee's current duties and responsibilities and express the nominee's interest in the position. Please ensure that the resume or curriculum vitae includes the following information, if applicable: education; certification; professional association membership and committee membership activities; duties and responsibilities in current and previous clinical, research, and/or academic position(s).

FOR FURTHER INFORMATION CONTACT: Ms. Sophie Holiday, U.S. Nuclear Regulatory Commission, Office of Federal and State Materials and Environmental Management Programs; (301) 415-7865; sophie.holiday@nrc.gov.

SUPPLEMENTARY INFORMATION: The ACMUI brachytherapy radiation oncologist provides advice on issues associated with radiation oncology and the clinical use of brachytherapy, including the use of permanently implanted microspheres. This advice includes providing input on NRC proposed rules and guidance, providing recommendations on the training and experience requirements for physicians specializing in this use, identifying medical events associated with this use, evaluating non-routine uses of byproduct material and emerging medical technologies, bringing key issues in the radiation oncology community to the attention of NRC staff, and other radiation oncology issues as they relate to radiation safety and NRC medical-use policy.

ACMUI members are selected based on their educational background, certification(s), work experience, involvement and/or leadership in professional society activities, and other information obtained in letters or during the selection process.

ACMUI members possess the medical and technical skills needed to address evolving issues. The current membership is comprised of the following professionals: (a) nuclear medicine physician; (b) nuclear cardiologist; (c) two radiation oncologists; (d) diagnostic radiologist; (e) therapy medical physicist; (f) nuclear medicine physicist; (g) nuclear pharmacist; (h) radiation safety officer; (i) patients' rights advocate; (i) Food and Drug Administration representative; and (j) Agreement State representative. For additional information about membership on the ACMUI, visit the ACMUI Membership Web page, http://www.nrc.gov/aboutnrc/regulatory/advisory/acmui/membership.html.

NRC is inviting nominations for the Radiation Oncologist physician position on the ACMUI. The term of the individual currently occupying this position will end on February 25, 2015. Committee members currently serve a four-year term and may be considered for reappointment to an additional term.

Nominees must be U.S. citizens and be able to devote approximately 160 hours per year to Committee business. Members are expected to attend semi-annual meetings in Rockville, Maryland, and to participate in teleconferences, as needed. Members who are not Federal employees are compensated for their service. In addition, these members are reimbursed for travel and correspondence expenses. Full-time Federal employees are reimbursed travel expenses only.

Security Background Check: The selected nominee will undergo a thorough security background check. Security paperwork may take the nominee several weeks to complete. Nominees will also be required to complete a financial disclosure statement to avoid conflicts of interest.

Dated at Rockville, Maryland, this 13th day of March, 2014.
For the U.S. Nuclear Regulatory Commission.
Andrew L. Bates,
Advisory Committee Management Officer.

[FR Doc. 2014-06049 Filed 3-18-14; 8:45 am]

BILLING CODE 7590-01-P